NUCLEAR REGULATORY COMMISSION

[Docket Nos. 50-250 and 50-251; NRC-2014-0100]

Florida Power & Light Company; Turkey Point Nuclear Generating Unit Nos. 3 and 4

AGENCY: Nuclear Regulatory Commission.

ACTION: License amendment application; withdrawal by applicant.

SUMMARY: The U.S. Nuclear Regulatory Commission (NRC) received a request from Florida Power & Light Company (the licensee) to withdraw its application dated October 30, 2012, for proposed amendments to Renewed Facility Operating License Nos. DPR-31 and DPR-41. The proposed amendments would have revised Technical Specification (TS) 3/4.5.2, “ECCS [Emergency core cooling system] Subsystems—Tavg Greater Than or Equal To 350 °F [degrees Fahrenheit],” and TS 3/4.8.1, “A.C. [Alternating Current] Sources.” The NRC permitted the licensee to withdraw the application.

ADDRESSES: Please refer to Docket ID NRC-2014-0100 when contacting the NRC about the availability of information regarding this document. You may access publicly available information related to this document using any of the following methods:

• Federal Rulemaking Web site: Go to http://www.regulations.gov, and search for Docket ID NRC-2014-0100. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents,” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Audrey L. Klett, Office of Nuclear Reactor Regulation, U.S. Nuclear Regulatory Commission, Washington, DC 20555-0001; telephone: 301-415-0489; email: Audrey.Klett@nrc.gov.

SUPPLEMENTARY INFORMATION: The NRC permitted Florida Power & Light Company to withdraw its application dated October 30, 2012 (ADAMS Accession No. ML12307A019), for proposed amendments to Renewed Facility Operating License Nos. DPR-31 and DPR-41 for the Turkey Point Nuclear Generating Unit Nos. 3 and 4, respectively, located in Miami-Dade County, Florida. The proposed amendments would have revised TS 3/4.5.2, “ECCS Subsystems—Tavg Greater Than or Equal To 350 °F,” and TS 3/4.8.1, “A.C. Sources.”

The NRC issued a Notice of Consideration of Issuance of Amendments to Facility Operating Licenses published in the Federal Register (FR) on February 19, 2013 (78 FR 11692). However, by letter dated March 26, 2014 (ADAMS Accession No. ML14104B433), the licensee requested to withdraw the proposed amendments.

Dated at Rockville, Maryland, this 21st day of April 2014.
For the Nuclear Regulatory Commission.
Audrey L. Klett,
Project Manager, Plant Licensing Branch II-2, Division of Operating Reactor Licensing, Office of Nuclear Reactor Regulation.

[FR Doc. 2014-10148 Filed 5-1-14; 8:45 am]

BILLING CODE 7590-01-P